DEPARTMENT OF ENERGY

Federal Energy Regulatory Commission

[Docket No. ER00-2212-001, et al.]

Entergy Services. Inc., et al. Electric Rate and Corporate Regulation Filings

May 18, 2000.

Take notice that the following filings have been made with the Commission:

1. Entergy Services, Inc.

Docket No. ER00-2212-001]

Take notice that on May 12, 2000, Entergy Services, Inc., acting as agent for Entergy Arkansas, Inc. and Entergy Gulf States, Inc., tendered for filing an amendment to its April 14, 2000, filing of Generator Imbalance Agreements with Pine Bluff Energy LLC (Pine Bluff) and Carville Energy LLC (Carville), and amendments to the Interconnection and Operating Agreements with Pine Bluff and Carville.

Comment date: June 2, 2000, in accordance with Standard Paragraph E at the end of this notice.

2. Wisconsin Public Service Corporation

[Docket No. ER00-2495-000]

Take notice that on May 15, 2000, Wisconsin Public Service Corporation (WPSC), tendered for filing an amendment to its Coordination Sales Tariff (CST), FERC Electric Tariff, First Revised Volume No. 5. WPSC filed this amendment to change the definition of “out-of-pocket cost” for purposes of Service Schedule A—Negotiated Capacity and Energy, Service Schedule B—General Purpose Energy and Service Schedule C—Emergency Energy. This filing also reformats the CST to comply with the Commission's new tariff sheet designation policy.

Copies of the filing were served upon the public utility's customers under the CST Tariff, the Public Service Commission of Wisconsin and the Michigan Public Service Commission.

Comment date: June 5, 2000, in accordance with Standard Paragraph E at the end of this notice.

3. Allegheny Energy Service Corporation, on behalf of Allegheny Energy Supply Company, LLC

[Docket No. ER00-2494-000]

Take notice that on May 15, 2000, Allegheny Energy Service Corporation on behalf of Allegheny Energy Supply Company, LLC (Allegheny Energy Supply), tendered for filing Supplement No. 41 to add one (1) new Customer to the Market Rate Tariff under which Allegheny Energy Supply Company offers generation services; and filed Amendment No. 1 to Supplement No. 41 to incorporate a Netting Agreement with FirstEnergy Trading Services, Inc. into the tariff provisions.

Allegheny Energy Supply requests a waiver of notice requirements both to make service available to the Customer and to make the Netting Agreement effective as of April 16, 2000 or on a date as determined by the Commission.

Copies of the filing have been provided to the Public Utilities Commission of Ohio, the Pennsylvania Public Utility Commission, the Maryland Public Service Commission, the Virginia State Corporation Commission, the West Virginia Public Service Commission, and all parties of record.

Comment date: June 5, 2000, in accordance with Standard Paragraph E at the end of this notice.

4. Maine Electric Power Company

[Docket No. ER00-2493-000]

Take notice that on May 15, 2000, Maine Electric Power Company (MEPCO) tendered for filing a service agreement for Non-Firm Point-to-Point Transmission service entered into with Duke Energy Trading and Marketing. Service will be provided pursuant to MEPCO's Open Access Transmission Tariff, designated rate schedule MEPCO—FERC Electric Tariff, Original Volume No. 1, as supplemented.

Comment date: June 5, 2000, in accordance with Standard Paragraph E at the end of this notice.

5. Public Service Company of New Mexico

[Docket No. ER00-2127-000]

Take notice that on May 15, 2000, Public Service Company of New Mexico (PNM), tendered for filing an amendment to its April 5, 2000, filing of Notices of Cancellation of various Electric Power Sale, Purchase, and Tariff Service Agreements. In the amendment, PNM withdraws the Notice of Cancellation for the Service Agreement between PNM and Washington Water Power Company (now known as Avista Corporation) dated June 1, 1992 under Avista Corporation's FERC Electric Rate Tariff Original Volume No. 4. PNM's filing is available for public inspection at its offices in Albuquerque, New Mexico.

Comment date: June 5, 2000, in accordance with Standard Paragraph E at the end of this notice.

6. Commonwealth Edison Company

[Docket No. ER00-2487-000]

Take notice that on May 15, 2000, Commonwealth Edison Company (ComEd), tendered for filing a Sales Agreement to sell power and energy to Central Illinois Light Company (CILCO).

ComEd requests an effective date of May 16, 2000 for the agreements and accordingly seeks waiver of the Commission's notice requirements.

Copies of the filing were served on CILCO.

Comment date: June 5, 2000, in accordance with Standard Paragraph E at the end of this notice.

7. Commonwealth Edison Company

[Docket No. ER00-2486-000]

Take notice that on May 15, 2000, Commonwealth Edison Company (ComEd), tendered for filing MBR Sales Agreements establishing Dynegy Energy Services, Inc., MidAmerican Energy Company and Nicor Energy, L.L.C. as customers under ComEd's FERC Electric Market Based-Rate Schedule for power sales.

ComEd requests an effective date of May 16, 2000 for the agreements and accordingly seeks waiver of the Commission's notice requirements.

Copies of the filing were served on Dynegy Energy Services, Inc., MidAmerican Energy Company and Nicor Energy L.L.C.

Comment date: June 5, 2000, in accordance with Standard Paragraph E at the end of this notice.

8. Reliant Energy Mid-Atlantic Power Holdings, LLC

[Docket No. ER00-2508-000]

Take notice that on May 15, 2000, Reliant Energy Mid-Atlantic Power Holdings, LLC (Reliant Energy Mid-Atlantic), tendered for filing a Notice of Succession pursuant to Section 35.16 of the Commission's Regulations, 18 CFR 35.16. Reliant Energy Mid-Atlantic is succeeding to the FERC Electric Tariff, First Revised Volume No. 1 of Reliant Energy Pennsylvania Holdings, LLC, effective May 12, 2000.

Comment date: June 5, 2000, in accordance with Standard Paragraph E at the end of this notice.

9. Allegheny Energy Service Corporation, on behalf of Monongahela Power Company, The Potomac Edison Company and West Penn Power Company (Allegheny Power)

[Docket No. ER00-1262-000]

Take notice that on May 12, 2000, Allegheny Energy Service Corporation on behalf of Monongahela Power Company, The Potomac Edison Company and West Penn Power Company (Allegheny Power), tendered for filing filed revisions to its Open Access Transmission Tariff in compliance with the Commission's Order of Aril 13, 2000 at Docket No. ER00-1262-000, 91 FERC ¶ 61,044.

Copies of the filing have been provided to jurisdictional customers, the Public Utilities Commission of Ohio, the Pennsylvania Public Utility Commission, the Maryland Public Service Commission, the Virginia State Corporation Commission, the West Virginia Public Service Commission and all parties of record.

Comment date: June 2, 2000, in accordance with Standard Paragraph E at the end of this notice.

10. MidAmerican Energy Company

[Docket No. ER00-2503-000]

Take notice that on May 15, 2000, MidAmerican Energy Company (MidAmerican), tendered for filing with the Commission a Notice of Cancellation of its Service Agreement dated July 11, 1962, between Iowa Power and Light Company (a predecessor company of MidAmerican) and the City of Neola, Iowa, pursuant to Section 35.15 of the Commission's Regulations. This Agreement has been designated as MidAmerican Rate Schedule No. 33.

MidAmerican requests a waiver of Section 35.15 to the extent that this Notice of Cancellation has not been filed within the time required by such section. MidAmerican inadvertently failed to submit the Notice of Cancellation upon expiration of the agreement under its own terms.

MidAmerican requests that the following rate schedule be canceled effective as of 11:59 p.m. on March 31, 1999:

MidAmerican has mailed a copy of this filing to City of Neola, Iowa, the Iowa Utilities Board, the Illinois Commerce Commission and the South Dakota Public Utilities Commission.

Comment date: June 5, 2000, in accordance with Standard Paragraph E at the end of this notice.

11. PacifiCorp, Portland General Electric Company, Puget Sound Energy, Inc., Avista Corporation; TransAlta Centralia Generation LLC

[Docket No. EC00-87-001]

Take notice that on May 11, 2000, PacifiCorp, Portland General Electric Company, Puget Sound Energy, Inc., and Avista Corporation, and TransAlta Centralia Generation LLC (TACG) (collectively, the Applicants) filed as part of Exhibit H to their Application filed on Friday, May 5, 2000 pursuant to Section 203 of the Federal Power Act, an unexecuted version of the Assignment and Assumption Agreement for the transfer of the Standby Service Agreement.

Comment date: June 5, 2000, in accordance with Standard Paragraph E at the end of this notice.

12. PacifiCorp; Portland General Electric Company; Puget Sound Energy, Inc.; Avista Corporation; TransAlta Centralia Generation LLC

[Docket No. EC00-87-000]

Take notice that on May 5, 2000, PacifiCorp, Portland General Electric Company, Puget Sound Energy, Inc., Avista Corporation (collectively, the Joint Parties), and TransAlta Centralia Generation LLC (TACG) (together, the Applicants) submitted for filing an application pursuant to Section 203 of the Federal Power Act (FPA) seeking authorization to assign the rights and obligations of the Joint Parties under the Centralia Standby Service Agreement between Bonneville Power Administration (BPA) and the Joint Parties from the Joint Parties to TACG.

On May 8, 2000, the applicants filed an errata to their application correcting footnote one on page one of the application. It incorrectly stated that the Joint parties and certain other non-jurisdictional public entities are the joint owners of the Centralia Steam Electric Generating Plant (the Centralia Facility). The Applicants would like to clarify that these parties interests in the Centralia Facility were conveyed to TACG in a transaction which was approved by the Commission and consummated on May 4, 2000.

Comment date: June 5, 2000, in accordance with Standard Paragraph E at the end of this notice.

13. Madison Gas & Electric Company

[Docket No. EC00-89-000]

Take notice that on May 9, 2000, Madison Gas & Electric Company (MGE), pursuant to Section 203 of the Federal Power Act, 16 U.S.C. § 824b, filed an Application for approval to transfer operational control over certain identified transmission facilities to the Midwest Independent Transmission System Operator, Inc. (Midwest ISO). MGE states that this filing is intended to reflect the fact that it has joined the Midwest ISO, and to allow for the transfer of control of the identified facilities to the Midwest ISO.

MGE states that the filing has been served on all affected state commissions and all parties in Docket Nos. ER98-1438 and EC98-24.

Comment date: June 8, 2000, in accordance with Standard Paragraph E at the end of this notice.

14. P&L Coal Holdings Corporation; Edison Mission Energy; Citizens Power LLC

[Docket No. EC00-90-000]

Take notice that on May 12, 2000, P&L Coal Holdings Corporation, Edison Mission Energy, and Citizens Power LLC filed an application for an order authorizing the proposed sale to Edison Mission Energy, of certain of P&L Coal Holdings Corporation's indirect equity interests in the following power marketing entities: Citizens Power Sales LLC, Hartford Power Sales, L.L.C., CL Power Sales One, L.L.C., CL Power Sales Two, L.L.C., CP Power Sales Five, L.L.C., CL Power Sales Six, L.L.C., CL Power Sales Seven, L.L.C., CL Power Sales Eight, L.L.C., CL Power Sales Nine, L.L.C., CL Power Sales Ten, L.L.C., CP Power Sales Twelve, L.L.C., CP Power Sales Thirteen, L.L.C., CP Power Sales Fourteen, L.L.C., CP Power Sales Fifteen, L.L.C., CP Power Sales Seventeen, L.L.C., CP Power Sales Eighteen, L.L.C., CP Power Sales Nineteen, L.L.C., and CP Power Sales Twenty, L.L.C.

Comment date: June 12, 2000, in accordance with Standard Paragraph E at the end of this notice.

15. Conectiv; NRG Energy, Inc.

[Docket No. EC00-91-000]

Take notice that on May 15, 2000, Conectiv and NRG Energy, Inc. (NRG Energy) (collectively, the Applicants) submitted on behalf of certain of their respective subsidiaries a joint application under Section 203 of the Federal Power Act and Part 33 of the Commission's regulations to request authorization and approval for the sale of certain jurisdictional transmission facilities (and the appurtenant generating facilities) and for the assignment of interests in the Keystone and Conemaugh Interconnection Agreements to NRG Energy.

The Conectiv subsidiaries involved in the sale of the facilities and interests are Delmarva Power & Light Company, Atlantic City Electric Company, and Conectiv Delmarva Generation, Inc. The NRG Energy subsidiaries who will acquire the Conectiv facilities and interests are Deepwater Power LLC; B. L. England Power LLC; Indian River Power LLC; Vienna Power LLC; Keystone Power LLC; and Conemaugh Power LLC. The NRG Energy subsidiaries who will participate in the ownership of those six companies are MidAtlantic Generation Holding LLC; NRG Atlantic LLC; and NRG MidAtlantic Generating LLC.

The Applicants' proposed closing date for the sale and assignment is on or about September 1, 2000. The Applicants request approval of the transaction by or about August 1, 2000.

The Applicants state that copies of their joint application have been served upon the state regulatory commissions of New Jersey, Delaware, Maryland, Pennsylvania and Virginia; the signatories to the Keystone and Conemaugh Interconnection Agreements; the PJM Interconnection, LLC; Delmarva's wholesale requirements customers; and the wholesale electric systems dependent on Atlantic or Delmarva for access to the PJM transmission grid.

Comment date: June 14, 2000, in accordance with Standard Paragraph E at the end of this notice.

16. New England Power Pool

[Docket No. ER00-2485-000]

Take notice that on May 15, 2000, the New England Power Pool (NEPOOL) Participants Committee and Transmission Owners submitted the Fifty-Fifth Agreement Amending the New England Power Pool Agreement (Fifty-Fifth Agreement) which provides for the addition of System Restoration and Planning Services to the NEPOOL Tariff, including both requirements and compensation for the provision of those services. The NEPOOL Participants Committee and Transmission Owners could not agree on the effective date for the Agreement and have requested the Commission determine the effective date provided such date is not later than July 14, 2000.

The NEPOOL Participants Committee and Transmission Owners state that copies of these materials were sent to the NEPOOL Participants and the six New England state governors and regulatory commissions.

Comment date: June 5, 2000, in accordance with Standard Paragraph E at the end of this notice.

17. Commonwealth Edison Company

[Docket No. ER00-2488-000]

Take notice that on May 15, 2000, Commonwealth Edison Company (ComEd) tendered for filing a Sales Agreement to sell power and energy to Unicom Energy, Inc. (UEI).

ComEd requests an effective date of May 16, 2000 for the agreements and accordingly seeks waiver of the Commission's notice requirements.

Copies of the filing were served on UEI.

Comment date: June 5, 2000, in accordance with Standard Paragraph E at the end of this notice.

18. Louisville Gas And Electric Company; Kentucky Utilities Company

[Docket No. ER00-2489-000]

Take notice that on May 15, 2000, Louisville Gas and Electric Company (LG&E)/Kentucky Utilities (KU) (hereinafter Companies) tendered for filing executed unilateral Service Sales Agreement between Companies and Connectiv Energy Supply, Inc. under the Companies' Rate Schedule MBSS. This filing replaces previous filing of unexecuted agreement filed on April 18, 2000 and designated Docket No. ER00-2231-000.

Comment date: June 5, 2000, in accordance with Standard Paragraph E at the end of this notice.

19. Louisville Gas And Electric Company; Kentucky Utilities Company

[Docket No. ER00-2490-000]

Take notice that on May 15, 2000, Louisville Gas and Electric Company (LG&E)/Kentucky Utilities (KU) (hereinafter Companies) tendered for filing an executed Netting Agreement between the Companies and Connectiv Energy Supply, Inc.

Comment date: June 5, 2000, in accordance with Standard Paragraph E at the end of this notice.

20. Louisville Gas And Electric Company; Kentucky Utilities Company

[Docket No. ER00-2491-000]

Take notice that on May 15, 2000, Louisville Gas and Electric Company (LG&E)/Kentucky Utilities (KU) (hereinafter Companies) tendered for filing AN executed Netting Agreement between the Companies and DTE Energy Trading.

Comment date: June 5, 2000, in accordance with Standard Paragraph E at the end of this notice.

21. PPL Montana, LLC

[Docket No. ER00-2492-000]

Take notice that on May 15, 2000, PPL Montana, LLC (PPL Montana) filed a Service Agreement dated May 1, 2000 with PPL EnergyPlus, LLC (PPL EnergyPlus) under PPL Montana's Market-Based Rate Tariff, FERC Electric Tariff, Original Volume No. 1. The Service Agreement adds PPL EnergyPlus as an eligible customer under the Tariff.

PPL Montana requests an effective date of May 1, 2000 for the Service Agreement.

PPL Montana states that PPL EnergyPlus has been served with a copy of this filing.

Comment date: June 5, 2000, in accordance with Standard Paragraph E at the end of this notice.

22. Consumers Energy Company

[Docket No. ER00-2496-000]

Take notice that on May 15, 2000, Consumers Energy Company (Consumers) tendered for filing a service agreement for unbundled wholesale power service pursuant to the Consumers' cost-based Power Sales Tariff accepted for filing on September 12, 1997 in Docket No. ER97-964-000 with British Columbia Power Exchange Corporation.

Copies of the filed agreement were served upon the Michigan Public Service Commission and the customer.

Comment date: June 5, 2000, in accordance with Standard Paragraph E at the end of this notice.

23. Entergy Services, Inc.

[Docket No. ER00-2497-000]

Take notice that on May 15, 2000, Entergy Services, Inc., on behalf of Entergy Arkansas, Inc., Entergy Gulf States, Inc., Entergy Louisiana, Inc., Entergy Mississippi, Inc., and Entergy New Orleans, Inc., (collectively, the Entergy Operating Companies) tendered for filing a Long-Term Firm Point-to-Point Transmission Service Agreement Entergy Services, Inc. as agent for the Entergy Operating Companies, and PECO Energy Company—Power Team.

Entergy Services requests that the agreement be made effective no later than May 3, 2000.

Comment date: June 5, 2000, in accordance with Standard Paragraph E at the end of this notice.

24. Golden Spread Electric Cooperative, Inc.

[Docket No. ER00-2498-000]

Take notice that on May 15, 2000, Golden Spread Electric Cooperative, Inc. (Golden Spread) tendered for filing Revisions to its FERC Rate Schedule Nos. 23-33.

Copies of this filing were served upon each of Golden Spread's Member Cooperatives taking service under such rate schedules and the Public Utility Commission of Texas.

Comment date: June 5, 2000, in accordance with Standard Paragraph E at the end of this notice.

25. Deseret Generation & Transmission Co-operative, Inc.

[Docket No. ER00-53-000]

Take notice that on May 15, 2000, Deseret Generation & Transmission Co-operative, Inc. filed an informational filing, attached as Appendix A, providing the exact amount paid as a Supplemental 1999 Rate Rebate to each of its six member cooperatives.

Comment date: June 5, 2000, in accordance with Standard Paragraph E at the end of this notice.

26. NorthWestern Corporation

[Docket No. ES00-35-001]

Take notice that on May 12, 2000, NorthWestern Corporation submitted an amendment to its original application in this proceeding pursuant to Section 204 of the Federal Power Act. The amendment seeks authorization to issue (iii) not more than 1,000,000 shares of its Common Stock, par value $1.75 per share, including related Common Stock Purchase Rights, for its Dividend Reinvestment and Director Stock Purchase Plan; (iv) not more than 100,000 shares of its Common Stock, par value $1.75 per share, including related Common Stock Purchase Rights to be issued for the purpose of making charitable contributions to qualifying organizations; (v) not more than 500,000 shares of its Cumulative Preferred Stock, par value $100 per share; and (vi) not more than 500,000 shares of its Preference Stock, par value $50 per share.

NorthWestern Corporation also requests an exemption from the Commission's competitive bidding and negotiated placement requirements of 18 CFR 34.2.

Comment date: June 7, 2000, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 00-13221 Filed 5-25-00; 8:45 am]

BILLING CODE 6717-01-P